FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 10, 2014.

A. Federal Reserve Bank of Chicago (Colette A. Fried, Assistant Vice President) 230 South LaSalle Street, Chicago, Illinois 60690-1414:

1. Linda J. Boerner, Coralville, Iowa, and Susan B. Libbey, Minnetonka, Minnesota, individually, and as members of the Bogue Family Group consisting of Linda J. Boerner, Coralville, Iowa; Susan B. Libbey, Minnetonka, Minnesota; Mark & Jaclyn Bogue, Ida Grove, Iowa; Brett Boerner, Urbandale, Iowa; Melissa Adrian, Richland, Iowa; and Ronald & Christine Boerner, Wamego, Kansas; to retain voting shares of First State Bancshares, Inc., and thereby indirectly retain voting shares of First State Bank, both in Ida Grove, Iowa.

Board of Governors of the Federal Reserve System, May 21, 2014.
Michael J. Lewandowski,
Associate Secretary of the Board.

[FR Doc. 2014-12106 Filed 5-23-14; 8:45 am]

BILLING CODE 6210-01-P